DEPARTMENT OF COMMERCE

Foreign-Trade Zones Board

[Docket 45-2011]

Foreign-Trade Zone 29—Louisville, KY; Application for Expansion

An application has been submitted to the Foreign-Trade Zones Board (the Board) by the Louisville & Jefferson County Riverport Authority, grantee of FTZ 29, requesting authority to expand Site 9 of FTZ 29 to include the entire 4-Star Regional Industrial Park in Robards, Kentucky. The application was submitted pursuant to the provisions of the Foreign-Trade Zones Act, as amended (19 U.S.C. 81a-81u), and the regulations of the Board (15 CFR part 400). It was formally filed on June 28, 2011.

Foreign-Trade Zone 29 was approved by the FTZ Board on May 26, 1977 (Board Order 118, 42 FR 29323, 6/8/1977), and expanded on January 31, 1989 (Board Order 429, 54 FR 5992, 2/7/1989), December 15, 1997 (Board Order 941, 62 FR 67044, 12/23/1997), July 17, 1998 (Board Order 995, 63 FR 40878, 7/31/1998), December 11, 2000 (Board Order 1133, 65 FR 79802, 12/20/2000), January 15, 2002 (Board Order 1204, 67 FR 4391, 12/30/2002), November 20, 2003 (Board Order 1305, 68 FR 67400, 12/2/2003), and January 27, 2005 (Board Order 1364, 70 FR 6616, 2/8/2005). The zone currently consists of 13 sites (5,659 acres): Site 1 (1,643 acres)—located within the Riverport Industrial Complex; Site 2 (564 acres)—located at the junction of Gene Snyder Freeway and La Grange Road in eastern Jefferson County; Site 3 (142 acres, 1,629,000 sq. ft.)—located at 5403 Southside Drive, Louisville; Site 4 (2,149 acres) at the Louisville International Airport; Site 5 (69 acres)—the Marathon Ashland Petroleum LLC Tank Farm (1.3 million barrels) and pipelines, located at 4510 Algonquin Parkway along the Ohio River, Louisville; Site 6 (316 acres)—Cedar Grove Business Park, on Highway 480, near Interstate 65, Shepherdsville, Bullitt County; Site 7 (191 acres)—Henderson County Riverport Authority facilities, 6200 Riverport Road, Henderson; Site 8 (182 acres)—Owensboro Riverport Authority facilities, 2300 Harbor Road, Owensboro; Site 9 (82 acres)—two parcels within the 4-Star Regional Industrial Park (expires 11/30/11), Robards; Site 10 (25 acres)—Global Port Business Park, 6201 Global Distribution Way, Louisville; Site 11 (261 acres)—Outer Loop, Louisville, including a warehousing facility located at Stennett Lane (116 acres), 8100 Air Commerce Drive (44 acres) and the Louisville Metro Commerce Center, 1900 Outer Loop Road (101 acres) (includes portions of two buildings located at 2240 and 2250 Outer Loop Road); Site 12 (29 acres)—Salt River Business Park, 376 Zappos Blvd., Shepherdsville, Bullitt County; and, Site 13 (6 acres)—Custom Quality Services located at 3401 Jewell Avenue, Louisville.

The applicant is requesting authority to expand Site 9 to include the entire 4-Star Regional Industrial Park as follows: Site 9 (778 acres)—4-Star Regional Industrial Park at US 41, Robards, Henderson County. The site will provide warehousing and distribution services to area businesses. No specific manufacturing authority is being requested at this time. Such requests would be made to the Board on a case-by-case basis.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is September 6, 2011. Rebuttal comments in response to material submitted during the foregoing period may be submitted during the subsequent 15-day period to September 19, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: June 28, 2011.
Andrew McGilvray,
Executive Secretary.

[FR Doc. 2011-16750 Filed 7-1-11; 8:45 am]

BILLING CODE 3510-DS-P